DEPARTMENT OF ENERGY

Federal Energy Regulatory Commission

Notice of Application for Amendment of Recreation Plan and Change in Project Land Rights and Soliciting Comments, Protests, and Motions To Intervene

August 19, 2004.

Take notice that the following application has been filed with the Commission and is available for public inspection:

a. Application Type: Amendment of Approved Recreation Plan and Change in Project Land Rights.

b. Project Number: P-2113-154.

c. Date Filed: July 11, 2003; revised March 15, 2004.

d. Applicant: Wisconsin Valley Improvement Company (WVIC).

e. Name of Project: Wisconsin Valley (Reservoirs).

f. Location: The project is located on the Wisconsin River and Headwater Tributaries in Gogebic County, Michigan and Vilas, Forest, Oneida, Lincoln, and Marathon Counties, Wisconsin. This proposal will not affect any federal or tribal lands.

g. Filed Pursuant to: Federal Power Act, 16 U.S.C. 791 (a)—825(r).

h. Applicant Contacts: Robert Gall, President, Wisconsin Valley Improvement Company, 2301 North Third Street, Wausau, Wisconsin 54403; phone: (715) 848-2976

i. FERC Contact: Any questions on this notice should be addressed to Steve Naugle at (202) 502-6061, or by e-mail: steven.naugle@ferc.gov.

j. Deadline for filing comments and or motions: September 20, 2004.

k. Description of the Application: WVIC, licensee for the Wisconsin Valley (Reservoirs) Project, proposes to: (1) Convey 35.8 acres of project land to the Wisconsin Department of Natural Resources (WDNR); and (2) amend the project's recreation plan by replacing the approved but not constructed facilities at Sites 1 and 2 at Willow Reservoir with facilities compatible with the WDNR's Willow Flowage Scenic Waters Area Master Plan. The proposed conveyance would: (1) require the WDNR to hold and manage the conveyed lands in perpetuity only for public use and resource protection, consistent with the terms and conditions of the project license; and (2) reserve to WVIC the right to monitor WDNR's compliance with the covenants contained in the conveyance and to take any lawful action necessary to ensure such compliance. The conveyed lands would remain within the project boundary.

l. Location of the Application: A copy of the application is available for inspection and reproduction at the Commission's Public Reference Room, located at 888 First Street, NE, Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, or for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers (P-2113-154). All documents (original and eight copies) should be filed with: Magalie R. Salas, Secretary, Federal Energy Regulatory Commission, 888 First Street, N.E., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See 18 CFR 385.2001(a)(1)(iii) and the instructions on the Commission's Web site at http://www.ferc.gov under the “e-Filing” link.

Linda Mitry,
Acting Secretary.

[FR Doc. E4-1943 Filed 8-25-04; 8:45 am]

BILLING CODE 6717-01-P